DEPARTMENT OF TRANSPORTATION

Federal Aviation Administration

14 CFR Part 71

[Docket No. FAA-2003-15492; Airspace Docket No. 03-ANE-102]

RIN 2120-AA66

Minor Revision of the Legal Description of VOR Federal Airway V-167 in the Vicinity of Hyannis, MA

AGENCY: Federal Aviation Administration (FAA), DOT.

ACTION: Final rule.

SUMMARY: This action makes a minor amendment to the legal description of Very High Frequency Omnidirectional Range (VOR) Federal Airway V-167. This change is necessary due to a slight realignment of the PEAKE Intersection, which is a fix located on the segment of V-167 that extends between the Providence, RI, Very High Frequency Omnidirectional Range/Tactical Air Navigation (VORTAC) facility and the Marconi, MA, Very High Frequency Omnidirectional Range/Distance Measuring Equipment (VOR/DME) facility. The realignment of the PEAKE Intersection requires a one degree change in the Marconi VOR/DME radial that forms the PEAKE Intersection. This amendment enhances system efficiency and safety.

EFFECTIVE DATE: 0901 UTC, September 4, 2003.

FOR FURTHER INFORMATION CONTACT: Paul Gallant, Airspace and Rules Division, ATA-400, Office of Air Traffic Airspace Management, Federal Aviation Administration, 800 Independence Avenue, SW., Washington, DC 20591; telephone: (202) 267-8783.

SUPPLEMENTARY INFORMATION:

Background

The PEAKE Intersection is a navigation fix located along the segment of V-167 that extends between the Providence VORTAC and the Marconi VOR/DME. PEAKE also serves as the initial approach fix for the instrument landing system (ILS) approach to Runway 24 at the Vineyard Haven Airport, Martha's Vineyard, MA. The PEAKE Intersection has been moved slightly in order to place the fix directly on the straight-in ILS course to the Vineyard Haven Airport. As a result of this move, the Marconi VOR/DME radial that is used to form the PEAKE Intersection must be shifted by one degree, from 211° to 212°.

The Rule

This action amends Title 14 CFR part 71 (part 71) by making a minor change in the legal description of VOR Federal Airway V-167. The PEAKE Intersection has been moved slightly in order to align the fix with the centerline of the ILS final approach course to Runway 24 at the Vineyard Haven Airport, MA. Due to this move, the Marconi VOR/DME radial that is used to form the PEAKE Intersection must be shifted by one degree, from 211° to 212°. This minor amendment ensures that the PEAKE Intersection remains properly aligned with the affected segment of V-167, and enhances the efficiency and safety of aircraft operations in the area.

Section 553(b) permits an agency for good cause to forego notice and comment rulemaking when such action is impracticable, unnecessary, or contrary to the public interest. Since this action merely involves a minor editorial change in the legal description of one Federal airway, which is necessary for system efficiency and safety, and does not involve a change in the dimensions or operating requirements of that airspace, I find that notice and public procedure under 5 U.S.C. 553(b) are unnecessary.

The FAA has determined that this regulation only involves an established body of technical regulations for which frequent and routine amendments are necessary to keep them operationally current. Therefore, this regulation: (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

Domestic VOR Federal airways are published in paragraph 6010(a) of FAA Order 7400.9K, dated August 30, 2002, and effective September 16, 2002, which is incorporated by reference in 14 CFR 71.1. The airway listed in this document will be published subsequently in the order.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E, AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9K, Airspace Designations and Reporting Points, dated August 30, 2002, and effective September 16, 2002, is amended as follows:

Paragraph 6010(a) Domestic VOR Federal Airways

* * * * *

V-167 [Revised]

From Hancock, NY; INT Hancock 117° and Kingston, NY, 270° radials; Kingston; INT Kingston 095° and Hartford, CT, 269° radials; Hartford; Providence, RI; INT Providence 101° and Marconi, MA, 212° radials; Marconi; INT Marconi 346° and Kennebunk, ME, 161° radials; to Kennebunk. The airspace outside the United States below 2,000 feet MSL, including the portion within Warning Area W-103, is excluded.

* * * * *

Issued in Washington, DC, on July 2, 2003.
Reginald C. Matthews,
Manager, Airspace and Rules Division.

[FR Doc. 03-17363 Filed 7-8-03; 8:45 am]

BILLING CODE 4910-13-P